DEPARTMENT OF COMMERCE

International Trade Administration

[A-893-001; A-400-001]

Silicon Metal From Bosnia and Herzegovina and Iceland: Antidumping Duty Orders

AGENCY: Enforcement and Compliance, International Trade Administration, Department of Commerce.

SUMMARY: Based on affirmative final determinations by the Department of Commerce (Commerce) and the International Trade Commission (ITC), Commerce is issuing antidumping duty orders on silicon metal from Bosnia and Herzegovina (Bosnia) and Iceland.

DATES: Applicable April 19, 2021.

FOR FURTHER INFORMATION CONTACT: Brittany Bauer (Bosnia) and Emily Halle (Iceland), AD/CVD Operations, Office V, Enforcement and Compliance, International Trade Administration, U.S. Department of Commerce, 1401 Constitution Avenue NW, Washington, DC 20230; telephone: (202) 482-3860 and (202) 482-0176, respectively.

SUPPLEMENTARY INFORMATION:

Background

In accordance with sections 735(d) and 777(i)(1) of the Tariff Act of 1930, as amended (the Act), and 19 CFR 351.210(c), on February 26, 2021, Commerce published its affirmative final determinations in the less-than-fair-value (LTFV) investigations of silicon metal from Bosnia and Iceland.¹ On April 12, 2021, the ITC notified Commerce of its final affirmative determinations that an industry in the United States is materially injured within the meaning of section 735(b)(1)(A)(i) of the Act by reason of LTFV imports of silicon metal from Bosnia and Iceland.²

¹ See Silicon Metal from Bosnia and Herzegovina and Iceland: Final Affirmative Determinations of Sales at Less Than Fair Value and Final Affirmative Determination of Critical Circumstances for Iceland, 86 FR 11720 (February 26, 2021).

² See ITC's Letter, ITC Notification, dated April 12, 2021 (ITC Letter).

Scope of the Orders

The products covered by these orders are silicon metal. For a complete description of the scope of the orders, see the appendix to this notice.

Antidumping Duty Orders

On April 12, 2021, in accordance with sections 735(b)(1)(A)(i) and 735(d) of the Act, the ITC notified Commerce of its final determinations that an industry in the United States is materially injured by reason of imports of silicon metal from Bosnia and Iceland. Therefore, in accordance with sections 735(c)(2) and 736 of the Act, Commerce is issuing these antidumping duty orders. Because the ITC determined that imports of silicon metal from Bosnia and Iceland are materially injuring a U.S. industry, unliquidated entries of such merchandise from Bosnia and Iceland, which are entered or withdrawn from warehouse for consumption, are subject to the assessment of antidumping duties.

Therefore, in accordance with section 736(b)(1) of the Act, Commerce will instruct U.S. Customs and Border Protection (CBP) to assess, upon further instruction by Commerce, antidumping duties equal to the amount by which the normal value of the merchandise exceeds the export price (or constructed export price) of the merchandise, for all relevant entries of silicon metal from Bosnia and Iceland. Antidumping duties will be assessed on unliquidated entries of silicon metal from Bosnia and Iceland which are entered, or withdrawn from warehouse, for consumption on or after December 11, 2020, the date of publication of the Preliminary Determinations.³

³ See Silicon Metal from Bosnia and Herzegovina and Iceland: Preliminary Affirmative Determination of Sales at Less Than Fair Value, 85 FR 80009 (December 11, 2020) (Preliminary Determinations).

Continuation of Suspension of Liquidation

In accordance with section 736 of the Act, Commerce will instruct CBP to continue to suspend liquidation on all relevant entries of silicon metal from Bosnia and Iceland as described in the appendix to this notice which are entered, or withdrawn from warehouse, for consumption on or after the date of publication of the ITC's notice of final determinations in the Federal Register. These instructions suspending liquidation will remain in effect until further notice.

We will also instruct CBP to require cash deposits for estimated antidumping duties equal to the rates listed below. Accordingly, effective on the date of publication in the Federal Register of the ITC's final affirmative injury determinations, CBP will require, at the same time as importers would normally deposit estimated duties on this subject merchandise, a cash deposit equal to the cash deposit rates listed below.⁴ The relevant all-others rate applies to all producers or exporters not specifically listed, as appropriate.

⁴ See section 736(a)(3) of the Act.

Estimated Weighted-Average Dumping Margins

The dumping margins for each antidumping duty order are as follows:

Exporter or producer | Dumping margin (percent)
Bosnia and Herzegovina
R-S Silicon D.O.O | 21.41
All Others | 21.41
Iceland
PCC Bakki Silicon hf | 47.54
All Others | 37.83

Critical Circumstances

With regard to the ITC's negative critical circumstances determination on imports of silicon metal from Iceland, we will instruct CBP to lift suspension and to refund any cash deposits made to secure the payment of estimated antidumping duties with respect to entries of the subject merchandise entered or withdrawn from warehouse, for consumption on or after September 12, 2020 (i.e., 90 days prior to the date of the publication of the Preliminary Determinations), but before December 11, 2020 (i.e., the date of publication of the Preliminary Determinations).

Provisional Measures

Section 733(d) of the Act states that suspension of liquidation pursuant to an affirmative preliminary determination may not remain in effect for more than four months, except where exporters representing a significant proportion of exports of the subject merchandise request Commerce extended the four-month period to no more than six-months. Commerce published the Preliminary Determinations on December 11, 2020. Commerce's Final Determinations were not extended and were published on February 26, 2021. Therefore, the four-month period beginning on the date of publication of the Preliminary Determinations ended on April 9, 2021. Furthermore, section 737(b) of the Act states that definitive duties are to begin on the date of publication of the ITC's final injury determination.

Therefore, in accordance with section 733(d) of the Act, we will instruct CBP to terminate the suspension of liquidation and to liquidate, without regard to antidumping duties, unliquidated entries of silicon metal from Bosnia and Iceland entered, or withdrawn from warehouse, for consumption after April 9, 2021, the date on which the provisional measures expired, until and through the day preceding the date of publication of the ITC's final injury determinations in the Federal Register. Suspension of liquidation will resume on the date of publication of the ITC's final determinations in the Federal Register.

Notifications to Interested Parties

This notice constitutes the antidumping duty orders with respect to silicon metal from Bosnia and Iceland pursuant to section 736(a) of the Act. Interested parties can find a list of antidumping duty orders currently in effect at http://enforcement.trade.gov/stats/iastats1.html.

These orders are published in accordance with section 736(a) of the Act and 19 CFR 351.211(b).

Dated: April 14, 2021.
Christian Marsh,
Acting Assistant Secretary for Enforcement and Compliance.

Appendix—Scope of the Orders

The scope of these orders covers all forms and sizes of silicon metal, including silicon metal powder. Silicon metal contains at least 85.00 percent but less than 99.99 percent silicon, and less than 4.00 percent iron, by actual weight. Semiconductor grade silicon (merchandise containing at least 99.99 percent silicon by actual weight and classifiable under Harmonized Tariff Schedule of the United States (HTSUS) subheading 2804.61.0000) is excluded from the scope of these orders.

Silicon metal is currently classifiable under subheadings 2804.69.1000 and 2804.69.5000 of the HTSUS. While the HTSUS numbers are provided for convenience and customs purposes, the written description of the scope remains dispositive.

[FR Doc. 2021-08112 Filed 4-16-21; 8:45 am]

BILLING CODE 3510-DS-P